DEPARTMENT OF DEFENSE

Office of the Secretary

[Docket ID: DoD-2022-OS-0032]

Submission for OMB Review; Comment Request

AGENCY: The Office of the Under Secretary of Defense for Personnel and Readiness (OUSD(P&R)), Department of Defense (DoD).

ACTION: 30-Day information collection notice.

SUMMARY: The Department of Defense has submitted to OMB for clearance the following proposal for collection of information under the provisions of the Paperwork Reduction Act.

DATES: Consideration will be given to all comments received by July 21, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574, whs.mc-alex.esd.mbx.dd-dod-information-collections@mail.mil.

SUPPLEMENTARY INFORMATION:

Title; Associated Form; and OMB Number: Family Member Travel Screening; DD Form 3040, DD Form 3040-1, DD Form 3040-2, DD Form 3040-3; OMB Control Number 0704-0560.

Type of Request: Extension.

Number of Respondents: 267,032.

Responses per Respondent: 1.

Annual Responses: 267,032.

Average Burden per Response: 19 minutes.

Annual Burden Hours: 84,560.13.

Needs and Uses: The DD Forms 3040, 3040-1, 3040-2, and 3040-3, are used during the Family Member Travel Screening process when active duty Service members with Permanent Change of Station order request Command sponsorship for accompanied travel to remote or outside continental U.S. installations. These forms document any special medical, dental, and/or educational needs of dependents accompanying the Service member to assist in determining the availability of care at a gaining installation. This standardized collection of information is required by the National Defense Authorization Act of 2010 (NDAA), 10 U.S.C. 136 and the DoD Instruction (DoDI) 1315.19, “The Exceptional Family Member Program (EFMP).” The NDAA 2010 established the Office of Special Needs (OSN) and tasked the office with developing, implementing, and overseeing comprehensive policies surrounding assignment and support for these military families. Additionally, per DoDI 1315.19, military departments are required to screen family members of active duty Service members for special needs and to coordinate assignments for Service members enrolled in the EFMP to verify if necessary medical and/or educational services are available at the next assignment.

Affected Public: Individuals or households.

Frequency: On occasion.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DoD Clearance Officer: Ms. Angela Duncan.

Requests for copies of the information collection proposal should be sent to Ms. Duncan at whs.mc-alex.esd.mbx.dd-dod-information-collections@mail.mil.

Dated: June 15, 2022.
Aaron T. Siegel,
Alternate OSD Federal Register Liaison Officer, Department of Defense.

[FR Doc. 2022-13242 Filed 6-17-22; 8:45 am]

BILLING CODE 5001-06-P